DEPARTMENT OF HEALTH AND HUMAN SERVICES

National Institutes of Health

Proposed Collection; Comment Request; Case-Control Study of Cancer and Related Disorders Among Benzene-Exposed Workers in China

SUMMARY: In compliance with the requirement of Section 3506(c)(2)(A) of the Paperwork Reduction Act of 1995, for opportunity for public comment on proposed data collection projects, the National Cancer Institute (NCI), the National Institutes of Health (NIH) will publish periodic summaries of proposed projects to be submitted to the Office of Management and Budget (OMB) for review and approval.

Proposed Collection: Title: Case-Control Study of Cancer and Related Disorders Among Benzene-Exposed Workers in China. Type of Information Collection Request: Extension. (OMB No. 0925-0454 expires 3/31/01) Need and Use of Information Collection: A case-control study will examine the relationship between exposure to benezene and the risk of lymphohematopoietic malignancies and related disorders and lung cancer in Chinese workers. Cases and controls will be selected from participants in a recent cohort study of benzene-exposed workers in China. The data will be used by the NCI to examine risk among workers exposed to low levels of benzene, and to characterize the dose and time-specific relationship between benzene exposure and disease risk. Frequency of Response: One-time study. Affected Public: Individuals or households. Type of Respondents: Workers. The annual reporting burden is as follows: Estimated Number of Respondents: 1,545; Estimated Number of Responses per Respondent: One; Average Burden Hours per Response: 0.75; and Estimated Total Annual Burden Hours Requested: 386.

There are no Capital Costs, Operating Costs, and/or Maintenance Costs to report.

Request for Comments: Written comments and/or suggestions from the public and affected agencies are invited on one or more of the following points: (1) Whether the proposed collection or information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION: To request more information on the proposed project or to obtain a copy of the data collection plans and instruments, contact Dr. Richard Hayes, Project Officer, National Cancer Institute, Executive Plaza South, Room 8114, Rockville, Maryland 20892-7364, or call non-toll-free number (301) 496-9093, or FAX your request to (301) 402-1819, or E-mail your request, including your address, to HayesR@exchange.nih.gov.

COMMENTS DUE DATE: Comments regarding this information collection are best assured of having their full effect if received on or before February 26, 2001.

Dated: December 18, 2000.
Reesa L. Nichols,
NCI Project Clearance Liaison.

[FR Doc. 00-33085 Filed 12-27-00; 8:45 am]

BILLING CODE 4140-01-M